LEGAL SERVICES CORPORATION

45 CFR Part 1624

Notice of Rulemaking Workshop—Request for Expressions of Interest in Participation

AGENCY: Legal Services Corporation.

ACTION: Notice of Rulemaking Workshop and Request for Expressions of Interest in Participation in Workshop.

SUMMARY: LSC is conducting a Rulemaking Workshop in connection with its rulemaking to consider revisions to its regulations on prohibition on discrimination on the basis of handicap at 45 CFR part 1624. LSC hereby solicits expressions of interest in participation in the Workshop from the regulated community, its clients, advocates, the organized bar, the disability rights community and other interested parties.

DATES: Expressions of interest must be received by November 18, 2005.

FOR FURTHER INFORMATION CONTACT: Victor M. Fortuno, Vice President & General Counsel, Legal Services Corporation, 3333 K St., NW., Washington, DC 20007; (202) 295-1620 (phone); (202) 337-6831 (fax) or vfortuno@lsc.gov.

SUPPLEMENTARY INFORMATION: The Legal Services Corporation (“LSC”) has initiated a rulemaking to consider revisions to 45 CFR part 1624 (Prohibition Against Discrimination on the Basis of Handicap). As part of this rulemaking proceeding, LSC is convening a Rulemaking Workshop prior to the development of a Draft Notice of Proposed Rulemaking. The Rulemaking Workshop will be held on December 13, 2005, from 9 a.m.-5 p.m., EST, (and may be extended to December 14, 2005, if necessary). The Rulemaking Workshop will be held in LSC's Conference Center, on the 3rd floor of 3333 K St., NW., Washington, DC 20007.

Under the LSC Rulemaking Protocol:

Rulemaking Workshops [* * *] enable LSC Board members and staff to meet with stakeholders prior to the development of a draft NPRM to discuss, but not negotiate, LSC rules and regulations. LSC believes the Notice and Comment process, including Rulemaking Workshops, [* * *] allow for an effective dialog between LSC and its recipients and other interested parties, in those instances in which Negotiated Rulemaking is not used.

When the Board has decided to initiate a rulemaking and to conduct a Rulemaking Workshop, [LSC's Office of Legal Affairs] will work with the Board and staff to select a date for the Rulemaking Workshop and will invite participants from the interested stakeholder community. The Workshop will be a meeting at which the participants hold open discussions designed to elicit information about problems or concerns with the regulation (or certain aspects thereof) and provide an opportunity for sharing ideas regarding how to address those issues. The Workshop is not intended [to] develop detailed alternatives or to obtain consensus on regulatory proposals. Upon the conclusion of the Workshop, the Board shall provide LSC staff with policy guidance on the issues discussed to aid staff in the development of the Draft Notice of Proposed Rulemaking (“NPRM”) 67 FR 69762, 69763 (November 19, 2002).

With this notice, LSC is inviting expressions of interest from the interested stakeholder community to participate in the Rulemaking Workshop. Expressions of interest should be forwarded in writing to Victor M. Fortuno, Vice President & General Counsel, Legal Services Corporation, 3333 K Street, NW., Washington, DC 20007. Such expressions of interest may be alternatively sent via e-mail to vfortuno@lsc.gov or via fax to (202) 337-6831, but must be received by close of business on November 18, 2005. LSC will select participants shortly thereafter and will inform all those who expressed interest of whether or not they have been selected.

The Workshops will be open to public observation but only persons selected will be allowed to participate. Participants are expected to cover their own expenses (travel, lodging, etc.). LSC may consider providing financial assistance to participants for whom travel costs would represent a significant hardship and barrier to participation. Any such person should so note in his/her expression of interest for LSC's consideration.

Victor M. Fortuno,
Vice President & General Counsel.

[FR Doc. 05-22289 Filed 11-8-05; 8:45 am]

BILLING CODE 7050-01-P